DEPARTMENT OF ENERGY

Federal Energy Regulatory Commission

Combined Notice of Filings #2

Take notice that the Commission received the following electric rate filings:

Docket Numbers: ER25-3195-000.

Applicants: Amber Meadow Solar, LLC.

Description: 205(d) Rate Filing: Amber Meadow Solar MBR Application to be effective 10/20/2025.

Filed Date: 8/15/25.

Accession Number: 20250815-5178.

Comment Date: 5 p.m. ET 9/5/25.

Docket Numbers: ER25-3196-000.

Applicants: Cabokenze Energy Storage, LLC.

Description: 205(d) Rate Filing: Cabokenze Energy Storage MBR Application to be effective 10/20/2025.

Filed Date: 8/15/25.

Accession Number: 20250815-5181.

Comment Date: 5 p.m. ET 9/5/25.

Docket Numbers: ER25-3197-000.

Applicants: White Pine Energy Storage, LLC.

Description: 205(d) Rate Filing: White Pine Energy Storage MBR Application to be effective 10/20/2025.

Filed Date: 8/15/25.

Accession Number: 20250815-5185.

Comment Date: 5 p.m. ET 9/5/25.

Docket Numbers: ER25-3198-000.

Applicants: Decatur Energy Storage, LLC.

Description: 205(d) Rate Filing: Decatur Energy Storage MBR Application to be effective 10/20/2025.

Filed Date: 8/15/25.

Accession Number: 20250815-5187.

Comment Date: 5 p.m. ET 9/5/25.

Docket Numbers: ER25-3199-000.

Applicants: Dougherty County Energy Storage, LLC.

Description: 205(d) Rate Filing: Dougherty County Energy Storage MBR Application to be effective 10/20/2025.

Filed Date: 8/15/25.

Accession Number: 20250815-5188.

Comment Date: 5 p.m. ET 9/5/25.

Docket Numbers: ER25-3200-000.

Applicants: Dothan Solar, LLC.

Description: 205(d) Rate Filing: Dothan Solar MBR Application to be effective 10/20/2025.

Filed Date: 8/15/25.

Accession Number: 20250815-5190.

Comment Date: 5 p.m. ET 9/5/25.

Docket Numbers: ER25-3201-000.

Applicants: Shortleaf Solar, LLC.

Description: 205(d) Rate Filing: Shortleaf Solar MBR Application to be effective 10/20/2025.

Filed Date: 8/15/25.

Accession Number: 20250815-5191.

Comment Date: 5 p.m. ET 9/5/25.

Docket Numbers: ER25-3202-000.

Applicants: Wilsonville Solar, LLC.

Description: 205(d) Rate Filing: Wilsonville Solar MBR Application to be effective 10/20/2025.

Filed Date: 8/15/25.

Accession Number: 20250815-5192.

Comment Date: 5 p.m. ET 9/5/25.

Docket Numbers: ER25-3203-000.

Applicants: Southwest Power Pool, Inc.

Description: Tariff Amendment: 4132R1 Choctaw Fields Solar Project Surplus Inter GIA Cancel to be effective 7/30/2025.

Filed Date: 8/18/25.

Accession Number: 20250818-5012.

Comment Date: 5 p.m. ET 9/8/25.

Docket Numbers: ER25-3204-000.

Applicants: SunZia Transmission, LLC.

Description: Tariff Amendment: Cancellation of TSA (SA No.1) with SunZia Wind PowerCo LLC to be effective 8/19/2025.

Filed Date: 8/18/25.

Accession Number: 20250818-5050.

Comment Date: 5 p.m. ET 9/8/25.

Docket Numbers: ER25-3205-000.

Applicants: PacifiCorp.

Description: 205(d) Rate Filing: PGE Cost Reimbursement Agreement Concurrence (R.S. No. 799) to be effective 9/28/2025.

Filed Date: 8/18/25.

Accession Number: 20250818-5053.

Comment Date: 5 p.m. ET 9/8/25.

Docket Numbers: ER25-3206-000.

Applicants: Cherry Valley PV I, LLC.

Description: 205(d) Rate Filing: Cherry Valley PV I, LLC MBR Tariff to be effective 10/18/2025.

Filed Date: 8/18/25.

Accession Number: 20250818-5067.

Comment Date: 5 p.m. ET 9/8/25.

Docket Numbers: ER25-3207-000.

Applicants: Cooks Mill PV I, LLC.

Description: 205(d) Rate Filing: Cooks Mill PV I, LLC MBR Tariff to be effective 10/18/2025.

Filed Date: 8/18/25.

Accession Number: 20250818-5068.

Comment Date: 5 p.m. ET 9/8/25.

Docket Numbers: ER25-3208-000.

Applicants: Mid-Atlantic Interstate Transmission, LLC.

Description: 205(d) Rate Filing: MAIT submits Amended IA, SA No. 4577 to be effective 10/18/2025.

Filed Date: 8/18/25.

Accession Number: 20250818-5069.

Comment Date: 5 p.m. ET 9/8/25.

Docket Numbers: ER25-3210-000.

Applicants: Crooked Creek PV I, LLC.

Description: 205(d) Rate Filing: Crooked Creek PV I, LLC MBR Tariff to be effective 10/18/2025.

Filed Date: 8/18/25.

Accession Number: 20250818-5074.

Comment Date: 5 p.m. ET 9/8/25.

Docket Numbers: ER25-3211-000.

Applicants: Olympus Phase 1, LLC.

Description: 205(d) Rate Filing: Olympus Phase 1, LLC MBR Tariff to be effective 8/19/2025.

Filed Date: 8/18/25.

Accession Number: 20250818-5093.

Comment Date: 5 p.m. ET 9/8/25.

Docket Numbers: ER25-3212-000.

Applicants: Olympus Phase 2, LLC.

Description: 205(d) Rate Filing: Olympus Phase 2, LLC MBR Tariff to be effective 8/19/2025.

Filed Date: 8/18/25.

Accession Number: 20250818-5096.

Comment Date: 5 p.m. ET 9/8/25.

Docket Numbers: ER25-3213-000.

Applicants: Olympus Phase 3, LLC.

Description: 205(d) Rate Filing: Olympus Phase 3, LLC MBR Tariff to be effective 8/19/2025.

Filed Date: 8/18/25.

Accession Number: 20250818-5097.

Comment Date: 5 p.m. ET 9/8/25.

Docket Numbers: ER25-3214-000.

Applicants: PJM Interconnection, L.L.C.

Description: 205(d) Rate Filing: Revisions to OA, Schedule 12 & RAA, Schedule 17 RE: 2Q 2025 Member Lists to be effective 6/30/2025.

Filed Date: 8/18/25.

Accession Number: 20250818-5104.

Comment Date: 5 p.m. ET 9/8/25.

Docket Numbers: ER25-3215-000.

Applicants: Saunder's Crossing Energy Storage, LLC.

Description: 205(d) Rate Filing: Saunder's Crossing Energy Storage MBR Application to be effective 10/20/2025.

Filed Date: 8/18/25.

Accession Number: 20250818-5111.

Comment Date: 5 p.m. ET 9/8/25.

Docket Numbers: ER25-3216-000.

Applicants: ELP Stillwater Solar LLC.

Description: 205(d) Rate Filing: Revised Market-Based Rate Tariff to be effective 8/19/2025.

Filed Date: 8/18/25.

Accession Number: 20250818-5113.

Comment Date: 5 p.m. ET 9/8/25.

Take notice that the Commission received the following electric securities filings:

Docket Numbers: ES25-65-000.

Applicants: GridLiance West LLC.

Description: Application Under Section 204 of the Federal Power Act for Authorization to Issue Securities of GridLiance West LLC.

Filed Date: 8/15/25.

Accession Number: 20250815-5220.

Comment Date: 5 p.m. ET 9/5/25.

Docket Numbers: ES25-66-000.

Applicants: Silver Run Electric, LLC.

Description: Application Under Section 204 of the Federal Power Act for Authorization to Issue Securities of Silver Run Electric, LLC.

Filed Date: 8/15/25.

Accession Number: 20250815-5223.

Comment Date: 5 p.m. ET 9/5/25.

Docket Numbers: ES25-67-000.

Applicants: Republic Transmission, LLC.

Description: Application Under Section 204 of the Federal Power Act for Authorization to Issue Securities of Republic Transmission, LLC.

Filed Date: 8/15/25.

Accession Number: 20250815-5224.

Comment Date: 5 p.m. ET 9/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 18, 2025.
Carlos D. Clay,
Deputy Secretary.

[FR Doc. 2025-15995 Filed 8-20-25; 8:45 am]

BILLING CODE 6717-01-P